NATIONAL PRISON RAPE ELIMINATION COMMISSION

Notice of Meeting

AGENCY: National Prison Rape Elimination Commission.

ACTION: Notice of meeting.

SUMMARY: Pursuant to the Prison Rape Elimination Act of 2003 (Pub. L. 108-79) [42 U.S.C Section 15601, et seq.], the National Prison Rape Elimination Commission intends to hold a public meeting. The meeting shall address several issue related to the impact prison sexual assaults have on the individual, the family, and the community. There will be survivor testimony related to having been sexually assaulted while incarcerated. There will also be testimony of a survivor's relative about the impact of prison rape on the survivor's family. Finally, expert witnesses will discuss the social, moral, mental, and medical consequences of prison sexual assault.

Date and Time: The meeting will take place on Tuesday, June 14, 2005, starting at 9 a.m.

ADDRESSES: The meeting will take place at 210 Cannon House Office Building, Budget Committee Hearing Room, Washington, DC, 20515.

Agency Contact: Lisa Price-Grear, National Prison Rape Elimination Commission, 810 7th Street, NW., Washington, DC 20531; by telephone at: (202) 616-3561.

Dated: May 11, 2005.
L. Jackson Thomas II,
Acting Executive Director, National Prison Rape Elimination Commission.

[FR Doc. 05-9748 Filed 5-18-05; 8:45 am]

BILLING CODE 4410-18-P